DEPARTMENT OF COMMERCE

National Oceanic and Atmospheric Administration

50 CFR Part 648

[Docket No 080630803-8805-01]

RIN 0648-AW99

Magnuson-Stevens Fishery Conservation and Management Act Provisions; Fisheries of the Northeastern United States; Termination of Expansion of Emergency Fishery Closure Due to the Presence of the Toxin that Causes Paralytic Shellfish Poisoning

AGENCY: National Marine Fisheries Service (NMFS), National Oceanic and Atmospheric Administration (NOAA), Commerce.

ACTION: Notice of termination.

SUMMARY: NMFS is announcing the termination of the revised and expanded Northern Temporary Paralytic Shellfish Poison (PSP) Closure Area, which became effective on July 2, 2008, and the return of the Northern and Southern Temporary PSP Closure Areas to their boundaries, previously implemented on January 1, 2008, and effective through December 31, 2008. Thus, the effect of this notice will be to partially reopen a large area around Nantucket Island to the harvest of certain shellfish species. Regulations governing fishery closures in response to public health threats require concurrence with the Secretary of Health and Human Services prior to any NMFS action on behalf of the Secretary of Commerce (Secretary).

DATES: Effective November 18, 2008, to December 29, 2008.

ADDRESSES: Written inquiries may be sent to Patricia A. Kurkul, National Marine Fisheries Service, Northeast Regional Office, 55 Great Republic Drive, Gloucester, MA 01930.

FOR FURTHER INFORMATION CONTACT: Timothy Cardiasmenos, Fishery Policy Analyst, (978) 281-9204; fax (978) 281-9135.

SUPPLEMENTARY INFORMATION: On December 31, 2007, at the request of the U.S. Food and Drug Administration (FDA), NMFS published an emergency action in the Federal Register (72 FR 74207), closing the Northern and Southern Temporary PSP Closure Areas from January 1, 2008 through December 31, 2008. On June 25, 2008, NMFS received a request from the FDA to revise and expand the Northern Temporary PSP Closure Area after samples of shellfish off of the coast of Massachusetts tested positive for the toxins (saxotoxins) that cause PSP. In response to the June 25th request, NMFS revised the January 1, 2008, closure to implement modified boundaries of the Northern and Southern Temporary PSP Closure Areas through an emergency action published in the Federal Register (73 FR 38340).

The FDA submitted a letter to NMFS on November 6, 2008, requesting the termination of the recently expanded Northern Temporary PSP Closure Area, and a continuation of the previously authorized closure. The FDA has determined that adequate samples of shellfish from the modified closure area, east of Nantucket Island, have tested well within safe limits for the toxins (saxotoxins) that cause PSP. These toxins are produced by the alga Alexandrium fundyense, which can form blooms commonly referred to as red tides. The FDA now finds that the modified portion of the Northern Temporary PSP Closure Area is safe for the harvest of Atlantic surfclams, ocean quahogs, and scallops harvested and shucked at sea for adductor muscles only. The FDA maintains its determination that the harvest of whole and roe-on scallops is still unsafe from this area. This action terminates the closure published on July 7, 2008, and reinstates the closure as published on December 31, 2007.

This notice is issued pursuant to section 305(c)(3)(D) of the Magnuson-Stevens Fishery Conservation and Management Act (Magnuson-Stevens Act), 16 U.S.C. 1855(c). That section states that any emergency regulation implemented under 305(c) “may be terminated by the Secretary at an earlier date by publication in the Federal Register of a notice of termination.”

Authority: 16 U.S.C. 1801 et seq.

Dated: November 17, 2008.
Samuel D. Rauch III,
Deputy Assistant Administrator For Regulatory Programs, National Marine Fisheries Service.

[FR Doc. E8-27749 Filed 11-18-08; 4:15 pm]

BILLING CODE 3510-22-S